DEPARTMENT OF ENERGY

Federal Energy Regulatory Commission

Notice of Effectiveness of Exempt Wholesale Generator Status

| Docket Nos.
CXA Temple 2, LLC | EG22-158-000
Ector County Generation, LLC | EG22-159-000
SR Bell Buckle, LLC | EG22-160-000
SR Cedar Springs, LLC | EG22-161-000
SR Clay, LLC | EG22-162-000
SR DeSoto I, LLC | EG22-163-000
SR Turkey Creek, LLC | EG22-164-000
SR DeSoto I Lessee, LLC | EG22-165-000
Allora Solar, LLC | EG22-166-000
Bulldog Solar, LLC | EG22-167-000
Cabin Creek Solar, LLC | EG22-168-000
PGR 2021 Lessee 12, LLC | EG22-169-000
Gunsight Solar, LLC | EG22-170-000
PGR 2021 Lessee 9, LLC | EG22-171-000
PGR 2021 Lessee 11, LLC | EG22-172-000
PGR 2021 Lessee 13, LLC | EG22-173-000
PGR 2021 Lessee 15, LLC | EG22-174-000
PGR 2021 Lessee 19, LLC | EG22-175-000
Phobos Solar, LLC | EG22-176-000
Sonny Solar, LLC | EG22-177-000
Java Solar, LLC | EG22-178-000
Limestone Wind Project, LLC | EG22-179-000
Lockhart Solar PV, LLC | EG22-180-000
Lockhart Reserve, LLC | EG22-181-000
Lockhart Solar PV II, LLC | EG22-182-000
Lockhart Transmission Holdings, LLC | EG22-183-000
TN Solar 1, LLC | EG22-184-000
EEC Skyhawk Lessee LLC | EG22-185-000
Top Hat Wind Energy LLC | EG22-186-000
Top Hat Wind Energy Holdings LLC | EG22-187-000
KCE NY 6, LLC | EG22-188-000
KCE TX 13, LLC | EG22-189-000
KCE TX 19, LLC | EG22-190-000
KCE TX 21, LLC | EG22-191-000
Brotman Generating, LLC | EG22-192-000
Mark One II, LLC | EG22-193-000
Brotman II, LLC | EG22-194-000
Powells Creek Farm Solar, LLC | EG22-195-000
Salt City Solar LLC | EG22-196-000
ENGIE Solidago Solar LLC | EG22-197-000
Sunnybrook Farm Solar, LLC | EG22-198-000

Take notice that during the month of September 2022, the status of the above-captioned entities as Exempt Wholesale Generators Companies became effective by operation of the Commission's regulations. 18 CFR 366.7(a) (2021).

Dated: October 11, 2022.
Debbie-Anne A. Reese,
Deputy Secretary.

[FR Doc. 2022-22484 Filed 10-14-22; 8:45 am]

BILLING CODE 6717-01-P